DEPARTMENT OF ENERGY

Federal Energy Regulatory Commission

[Docket No. CP01-432-001]

Northern Natural Gas Company; Notice of Compliance Filing

January 15, 2002.

Take notice that on January 3, 2002, Northern Natural Gas Company (Northern) tendered for filing to become part of Northern's FERC Gas Tariffs, the following tariff sheets proposed to be effective on December 19, 2001:

Fifth Revised Volume No. 1

Seventh Revised Sheet No. 3

Original Volume No. 2

69 Revised Sheet No. 1

First Revised Sheet No. 616

Northern states that the above sheets represent cancellation of Rate Schedule X-45 from Northern's Original Volume No. 2 FERC Gas Tariff, and its associated deletion from the Table of Contents in Northern's Volume Nos. 1 and 2 tariffs.

Northern states that copies of the filing were served upon the company's customers and interested state Commissions.

Any person desiring to be heard or to protest said application should file a motion to intervene or a protest with the Federal Energy Regulatory Commission, 888 First Street, N.E., Washington, DC 20426, in accordance with sections 385.211 and 385.214 of the Commission's Rules and Regulations. All such motions or protests must be filed as provided in section 154.210 of the Commission's Regulations. Protests will be considered by the Commission in determining the appropriate action to be taken, but will not serve to make protestants parties to the proceeding. Any person wishing to become a party must file a motion to intervene. Copies of this filing are on file with the Commission and are available for public inspection. This filing may be viewed on the Commission's web site at http://www.ferc.gov using the “RIMS” link, select “Docket #” and follow the instructions ((202)208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-1460 Filed 1-18-02; 8:45 am]

BILLING CODE 6717-01-P